GENERAL SERVICES ADMINISTRATION

Motor Vehicle Management; Cancellation of GSA Bulletin FMR B-12

AGENCY: Office of Governmentwide Policy, General Services Administration (GSA).

ACTION: Notice.

SUMMARY: This notice announces the cancellation of GSA Federal Management (FMR) Bulletin B-12.

DATES: The cancellation of GSA FMR Bulletin B-12 is effective November 12, 2009.

FOR FURTHER INFORMATION CONTACT: Mr. James Vogelsinger, General Services Administration, Office of Governmentwide Policy, Office of Travel, Transportation and Asset Management, at (202) 501-1764 or via e-mail at james.vogelsinger@gsa.gov Please cite FTR Bulletin B-12 cancellation notice.

SUPPLEMENTARY INFORMATION:

A. Background

GSA Bulletin FMR B-12 was signed on January 18, 2006, and became effective on May 25, 2006. The Bulletin provided a list of agencies for which GSA granted unlimited exemptions from the display of U.S. Government license plates and motor vehicle identification. 41 CFR part 102-34 was amended on March 20, 2009 (74 FR 11870). It revised the unlimited exemption from the requirement to display motor vehicle identification to exempt motor vehicles used primarily for investigative, law enforcement, intelligence, or security duties. The change recognizes the need for protecting agency missions and occupant safety and reduces the administrative burden of processing exemptions while maintaining the objective that Federal motor vehicles are required to be conspicuously identified unless exempted (see 40 U.S.C. 609). Therefore, GSA is canceling this Bulletin as unlimited exemptions are covered in 41 CFR 102-34.175.

B. Procedures

Bulletins regarding motor vehicle management are located on the Internet at http://www.gsa.gov/fmrbulletin as Federal Management Regulation (FMR) bulletins.

Dated: November 4, 2009.
James Vogelsinger,
Director, Motor Vehicle Management Policy.

[FR Doc. E9-27163 Filed 11-10-09; 8:45 am]

BILLING CODE 6820-14-P